DEPARTMENT OF COMMERCE

National Oceanic and Atmospheric Administration

[I.D.010807E]

Endangered Species; File No. 1595

AGENCY: National Marine Fisheries Service (NMFS), National Oceanic and Atmospheric Administration (NOAA), Commerce.

ACTION: Notice; receipt of application.

SUMMARY: Notice is hereby given that Michael Hastings, University of Maine, 5717 Corbett Hall, University of Maine, Orono, ME 04469, has applied in due form for a permit to take shortnose sturgeon (Acipenser brevirostrum) for purposes of scientific research.

DATES: Written, telefaxed, or e-mail comments must be received on or before February 15, 2007.

ADDRESSES: The application and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1595.

FOR FURTHER INFORMATION CONTACT: Brandy Hutnak or Malcolm Mohead, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

Michael Hastings seeks permission to conduct research on shortnose sturgeon in the Penobscot River System, Maine, over a period of five years. The purpose of the research is to assess the distribution, movements, and abundance of shortnose sturgeon in the river system. Up to 300 shortnose sturgeon would be captured annually by gill and trammel nets; anesthetized; measured; weighed; sexed; photographed; fin clipped; scanned for tags; Carlin tagged; PIT tagged; allowed to recover; and released. A subset of 30 pre-spawned fish would have external transmitters attached, in addition to a subset of 30 post-spawned, non-spawning, or immature fish that would be surgically implanted with transmitters. Unintentional mortality is requested for up to 12 shortnose sturgeon and 4 Atlantic salmon (Salmo salar) annually.

Dated: January 8, 2007.
Tammy C. Adams,
Acting Chief, Permits, Conservation and Education Division, Office of Protected Resources, National Marine Fisheries Service.

[FR Doc. E7-365 Filed 1-12-07; 8:45 am]

BILLING CODE 3510-22-S